DEPARTMENT OF AGRICULTURE

Federal Crop Insurance Corporation

Notice of Request for Extension of a Currently Approved Information Collection

AGENCY: Federal Crop Insurance Corporation, USDA.

ACTION: Extension of approval of an information collection; comment request.

SUMMARY: This notice announces a public comment period on the information collection requests (ICRs) associated with crop insurance policies administered by Federal Crop Insurance Corporation (FCIC).

DATES: Written comments on this notice will be accepted until close of business June 4, 2001.

ADDRESSES: Interested persons are invited to submit written comments to the Risk Management Education Division, Risk Management Agency, United States Department of Agriculture, 1400 Independence Avenue, SW., Stop 0808, Portals Building, 5th Floor, Suite 508, Washington, DC, 20250-0808.

FOR FURTHER INFORMATION CONTACT: For further information contact Craig Witt, Director, Risk Management Education Division, Risk Management Agency, United States Department of Agriculture, 1400 Independence Avenue, SW., Stop 0808, Portals Building, 5th Floor, Suite 508, Washington, DC, 20250-0808.

SUPPLEMENTARY INFORMATION: Title: Dairy Options Pilot Program; DOPP III.

OMB Number: 0563-0058.

Expiration Date of Approval: February 29, 2004.

Type of Request: Extension of a currently approved information collection.

Abstract: Section 191 of the Federal Agriculture Improvement and Reform Act (FAIR) of 1996 authorizes the Secretary of Agriculture (Secretary) to conduct a pilot program for one or more agricultural commodities to determine the feasibility of the use of futures and options as risk management tools to protect producers from fluctuations in price, yield and income. Accordingly, the Secretary directed RMA to develop DOPP. Section 134 of the Agricultural Risk Protection Act (ARPA) of 2000 amends section 191 of FAIR. In doing so, an expansion of eligible pilot counties to a maximum of 300 is authorized, except that no more than 25 counties may be in any one State.

The purpose of this notice is to announce the availability of DOPP in new States and counties and provide the new terms and conditions of the program.

DOPP is intended to offer an educational experience to dairy producers whose need for risk management tools has risen sharply as a result of unprecedented price volatility, the reduction of price supports, and the current unavailability of production or price insurance. The program represents a joint initiative between RMA and the private sector. DOPP procedures were first proposed to RMA by the Coffee, Sugar & Cocoa Exchange (CSCE), known as the New York Board of Trade (NYBOT). During the development of this program, the Chicago Mercantile Exchange (CME) provided additional recommendations. The intended educational benefits of DOPP include the preparation of producers to manage their price risk independently through the milk futures and options markets.

We are asking the Office of Management and Budget (OMB) to extend its approval of our use of this information collection activity for an additional 3 years.

The purpose of this notice is to solicit comments from the public concerning this information collection activity. These comments will help us:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average 1.0 hours per response.

Respondents/Affected Entities: Parties affected by the information collection requirements included in this Notice are dairy producers, and brokers.

Estimated annual number of respondents: 9,625.

Estimated annual number of responses per respondent: 6.9.

Estimated annual number of responses: 36,300.

Estimated total annual burden on respondents: 38,015.

All responses to this notice will be summarized and included in the request from OMB approval. All comments will also become a matter of public record.

Signed in Washington, DC, on March 29, 2001.
Phyllis W. Honor,
Acting Manager, Federal Crop Insurance Corporation.

[FR Doc. 01-8416 Filed 4-4-01; 8:45 am]

BILLING CODE 3410-08-P